DEPARTMENT OF HEALTH AND HUMAN SERVICES

Notice for Public Comments on Healthcare-Associated Infections (HAI) National Action Plan Targets

AGENCY: Office of Infectious Disease and HIV/AIDS Policy, Office of the Assistant Secretary for Health, Department of Health and Human Services, Office of the Secretary, Department of Health and Human Services.

ACTION: Notice for public comment.

SUMMARY: The Department of Health and Human Services' (HHS) Office of Infectious Disease and HIV/AIDS Policy (OIDP) in the Office of the Assistant Secretary for Health (OASH) announces the draft targets for updating the Healthcare-Associated Infections (HAI) National Action Plan, Phase 1, Acute Care Hospitals, for public comment. The HHS Core Group of the HAI National Action Plan reviewed data pre-pandemic and between 2020 and 2021 and developed potential 5-year targets based on assumptions that current HAI rates should return to pre-pandemic baseline rates within 2 years or within 3 years when determining these 5-year targets. The HHS HAI NAP Core Group recommends 5-year targets assuming a return to pre-pandemic baseline rates within 3 years based on two fundamentals: (1) pandemic-related challenges will likely persist in upcoming years, and (2) the pandemic has caused major strains on the health care system which make a 3-year timeline to achieve pre-pandemic Standardized Infection Ratio (SIR) the most appropriate choice. The draft targets are below.

DATES: All comments must be received by 5:00 p.m. ET on January 13, 2023, to be considered.

ADDRESSES: All comments must be submitted electronically to OIDP-HAI@hhs.gov to be considered.

FOR FURTHER INFORMATION CONTACT: Chinedu R. Okeke, OIDP, Medical Officer at chinedu.okeke@hhs.gov or 202-868-8872.

SUPPLEMENTARY INFORMATION: Healthcare Associated Infections (HAIs) are infections that patients get while receiving care or treatment, and many HAIs are preventable. Modern healthcare employs many types of invasive devices and procedures to treat patients and to help them recover. Infections can be associated with surgeries and the devices used in medical procedures, such as catheters or ventilators and due to the transmission of pathogens. HAIs are an important cause of morbidity and mortality in the United States and are associated with a substantial increase in healthcare costs each year. At any given time in the US, 1 out of every 31 hospitalized patients are affected by an HAI. HAIs occur in all types of care settings, including acute care hospitals, ambulatory surgical centers, dialysis facilities, outpatient care, and long-term care facilities. The updates here are for phase 1 of the action plan, which focuses on acute care hospitals.

HAIs are a significant source of complications across the continuum of care and can be transmitted between different healthcare facilities. However, recent studies suggest that implementing existing prevention practices can lead up to a 70 percent reduction in certain HAIs. Likewise, recent modeling data suggests that substantial reductions in resistant bacteria, like MRSA, can be achieved through coordinated activities between healthcare facilities in each region. The financial benefit of using these prevention practices is estimated to be $25 billion to $31.5 billion in medical cost savings. Risk factors for HAIs can be grouped into three general categories: medical procedures and antibiotic use, organizational factors, including risks for pathogen transmission, and patient characteristics. The behaviors of health care providers and their interactions with the health care system also influence the rate of HAIs.

To provide a roadmap for HAI prevention, HHS released the National Action Plan to Prevent Health Care-Associated Infections: Roadmap to Elimination (HAI National Action Plan) in 2009 with updates to phase 1, acute care hospitals made in 2013 and 2018. In 2020, HHS leadership transitioned the HAI portfolio to the Office of Infectious Disease and HIV/AIDS Policy (OIDP). To date, OIDP is the lead for the federal steering committee and charged with leading the process to update the HAI National Action Plan. Due to the COVID-19 pandemic, HHS and implementing agencies delayed the process of updating the national action plan and indicator targets for HAIs in acute care hospitals due to data instability. This proposed update would include new indicator targets for certain HAIs in acute care hospitals.

Goals

All Goals Are Five-Year Goals With the Baseline Year Being 2023 and the Goal Year Being 2028

• Reduce central line-associated bloodstream infections (CLABSI) in intensive care units and ward-located patients by 40% from 2023-2028

• Reduce catheter-associated urinary tracts infections (CAUTI) in intensive care units and ward-located patients by 25% from 2023-2028

• Reduce hospital-onset MRSA bacteremia by 40% from 2023-2028

• Reduce hospital-onset Clostridioides difficile infections (CDI) by 20% from 2023-2028

Of note, the previous iteration of the HAI national action plan included targets for reducing surgical site infections (SSI). However, during the period of 2020-2022, there has been significant data instability for SSI due to variable surgical volume related to deferral of elective surgeries in hospitals undergoing COVID surges. The HAI national action plan Core Group therefore decided not to establish targets for SSI at this time.

Information Needs

HHS seeks to obtain feedback from external stakeholders on the following:

1. Are the draft targets realistic and achievable?

2. Are there any critical gaps in the draft targets? If so, please specify the gaps.

3. Do you have any concerns about the targets? If so, please specify, and describe the concern regarding it.

Each commenter is limited to a maximum of seven pages.

Dated: November 2, 2022,
B. Kaye Hayes,
Deputy Assistant Secretary for Infectious Disease, Director, Office of Infectious Disease and HIV/AIDS Policy, Executive Director, Presidential Advisory Council on HIV/AIDS, Office of the Assistant Secretary for Health, Department of Health and Human Services.

[FR Doc. 2022-24822 Filed 11-14-22; 8:45 am]

BILLING CODE 4150-44-P